DEPARTMENT OF VETERANS AFFAIRS

[OMB Control No. 2900-New (10-21083 Series)]

Proposed Information Collection Activity: Proposed Collection; Comment Request

AGENCY: Veterans Health Administration, Department of Veterans Affairs.

ACTION: Notice.

SUMMARY: The Veterans Health Administration (VHA), Department of Veterans Affairs (VA), is announcing an opportunity for public comment on the proposed collection of certain information by the agency. Under the Paperwork Reduction Act (PRA) of 1995, Federal agencies are required to publish notice in the Federal Register concerning each proposed collection of information, including each new collection, and allow 60 days for public comment in response to the notice. This notice solicits comments for information needed to develop a patient satisfaction survey for hospitalized veterans.

DATES: Written comments and recommendations on the proposed collection of information should be received on or before September 11, 2006.

ADDRESSES: Submit written comments on the collection of information to Ann W. Bickoff, Veterans Health Administration (193E1), Department of Veterans Affairs, 810 Vermont Avenue, NW., Washington, DC 20420 or e-mail ann.bickoff@hq.med.va.gov. Please refer to “OMB Control No. 2900-New (10-21083 series)” in any correspondence.

FOR FURTHER INFORMATION CONTACT: Ann W. Bickoff, (202) 273-8310 or Fax (202) 273-9381.

SUPPLEMENTARY INFORMATION: Under the PRA of 1995 (Pub. L. 104-13; 44 U.S.C. 3501-3521), Federal agencies must obtain approval from the Office of Management and Budget (OMB) for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Title: Pilot of the Hospital Consumer Assessment of Health Plan Survey (HCAHPS) and Survey of Healthcare Experiences of Patients (SHEP) Satisfaction Survey Instruments, VA Forms 10-21083a through 10-21083e.

OMB Control Number: 2900-New (10-21083 series).

Type of Review: New collection.

Abstract: VA will conduct a series of five pilots to better understand how the Hospital Consumer Assessment of Health Plan Survey (HCAPHS) questionnaire (either alone or combined with all or part of VA's Survey of Healthcare Experiences of Patients (SHEP) survey) will perform in measuring patient satisfaction, and how hospitalized veteran patients will respond to healthcare related questions using the HCAHPS questionnaire.

Affected Public: Individuals or households.

Estimated Annual Burden: 3,625 hours.

10-21083a—362.50 hours.

10-21083b—725 hours.

10-21083c—1,087.50 hours.

10-21083d—725 hours.

10-21083e—725 hours.

Estimated Average Burden per Respondent:

10-21083a—15 minutes.

10-21083b—30 minutes.

10-21083c—45 minutes.

10-21083d—30 minutes.

10-21083de—30 minutes.

Frequency of Response: One time.

Estimated Number of Respondents: 7,250.

Dated: June 26, 2006.
By direction of the Secretary.
Denise McLamb,
Program Analyst, Records Management Service.

[FR Doc. E6-10966 Filed 7-12-06; 8:45 am]

BILLING CODE 8320-01-P